DEPARTMENT OF ENERGY

Federal Energy Regulatory Commission

[Project No. 13823-000]

Natural Currents Energy Services, LLC; Notice of Preliminary Permit Application Accepted for Filing and Soliciting Comments, Motions To Intervene, and Competing Applications

October 20, 2010.

On August 5, 2010, Natural Currents Energy Services, LLC filed an application for a preliminary permit, pursuant to section 4(f) of the Federal Power Act, proposing to study the feasibility of the Killisnoo Tidal Energy Project (Killisnoo Project), located in Kootznahoo Inlet northeast of Killisnoo Island, near the City of Angoon in the Skagway-Hoonah-Angoon Census Area of southeastern Alaska. The sole purpose of a preliminary permit, if issued, is to grant the permit holder priority to file a license application during the permit term. A preliminary permit does not authorize the permit holder to perform any land disturbing activities or otherwise enter upon lands or waters owned by others without the owners' express permission.

The proposed Killisnoo Project would consist of: (1) A moored test platform or dock, or underwater tethering device, pending evaluation of specific site conditions; (2) ten 25-kilowatt (kW) Red Hawk in-stream turbine modules for a total generating capacity of 250 kW; (3) an approximately 650-foot-long, 480-volt underwater transmission line connecting the Red Hawk modules to an existing above-ground local distribution system; and (4) appurtenant facilities. The project would have an estimated average annual generation of 1,000 megawatt-hours.

Applicant Contact: Roger Bason, President, Natural Currents Energy Services, LLC, 24 Roxanne Boulevard, Highland, NY 12528; phone: (845) 691- 4008.

FERC Contact: Jennifer Harper, (202) 502-6136.

The deadline for filing comments, motions to intervene, competing applications (without notices of intent), or notices of intent to file competing applications has been extended 60 days from the issuance of this notice to December 20, 2010. Competing applications and notices of intent must meet the requirements of 18 CFR 4.36. Comments, motions to intervene, notices of intent, and competing applications may be filed electronically via the Internet. Entities that have already filed comments, motions to intervene, competing applications, or notices of intent to file competing applications do not need to refile. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13823) in the docket number field to access the document. For assistance, contact FERC Online Support.

Kimberly D. Bose,
Secretary.

[FR Doc. 2010-27127 Filed 10-26-10; 8:45 am]

BILLING CODE 6717-01-P